DEPARTMENT OF HEALTH AND HUMAN SERVICES

Centers for Disease Control and Prevention

[Program Announcement 01027]

Notice of Availability of Funds; Cooperative Agreement With the National Association of Local Boards of Health To Improve the Nation's Public Health Infrastructure With Local Boards of Health

A. Purpose

The Centers for Disease Control and Prevention (CDC) announces the availability of fiscal year (FY) 2001 funds for a cooperative agreement program entitled “Improving the Nation's Public Health Infrastructure.” This program addresses the “Healthy People 2010” priority focus area of Public Health Infrastructure. For a copy of “Healthy People 2010,” visit the web site— http://www.health.gov/healthypeople.

The purpose of this cooperative agreement program is to improve the Nation's public health infrastructure and improve the performance of public health agencies by:

1. Developing and/or implementing strategies to encourage the development and use of standards for public health organizations, the public health workforce, and public health information systems;

2. Developing and/or implementing strategies to inform the public health community about effective approaches to improving public health organizations, the public health workforce, and public health information systems; and

3. Conducting activities to encourage the public health community to implement the most effective approaches to improving public health organizations, the public health workforce, and public health information systems.

B. Eligible Applicant

Assistance will be provided only to the National Association of Local Boards of Health (NALBOH). No other applications are solicited. NALBOH is uniquely qualified to be the recipient organization for the following reasons:

1. Local boards of health are at the core of the public health system. In some cases, they are responsible for developing public health policy for their jurisdictions and for governing the operations of local public health agencies. In other cases, they provide advice to elected officials or the public health agency regarding the development of local public health policy. NALBOH is the only organization that represents their interests and is committed to improving their ability to develop and implement effective public health policy (or facilitate its development and implementation).

2. NALBOH collaborated with CDC in the conduct of the first-ever national survey of local boards of health and in the subsequent publication and dissemination of the “National Profile of Local Boards of Health.”

3. NALBOH maintains and updates the only comprehensive listing of local boards of health in the United States and communicates regularly with those boards of health via its “NALBOH NewsBrief” and periodic special issue mailings.

4. NALBOH provides current public health information and opportunities for improving governance skills to key local board of health members at its annual educational conference and on a continuing basis via its web site.

5. NALBOH has collaborated with CDC and other public health organizations to develop local public health system performance standards (including governance standards for local boards of health).

6. NALBOH has a proven track record of collaborating with CDC and other public health organizations to successfully conduct projects to improve the development and implementation of public health policy in the areas of environmental and occupational health and tobacco control throughout the nation.

Note: Public Law 104-65 states that an organization, described in section 501(c)(4) of the Internal Revenue Code of 1986, that engages in lobbying activities is not eligible to receive Federal funds constituting an award, grant, cooperative agreement, contract, loan, or any other form.

C. Availability of Funds

Approximately $258,450 is available in FY 2001 to fund this award. It is expected that the award will begin on or about June 1, 2001, and will be made for a 12-month budget period within a project period of up to five years. Funding estimates may change.

Continuation awards within an approved project period will be made on the basis of satisfactory progress as evidenced by required reports and the availability of funds.

During the first year, funds are expected to be available to support the projects/activities listed in Part D.1. below as follows:

1. Core Activities $50,000

2. Special Projects 1, 4, 6, and 7 $95,950

3. Special Project 10 (environmental health) $10,000

4. Special Project 12 (tobacco prevention and control) $95,000

5. Special Project 13 (injury prevention and control) $7,500

Use of Funds

Funds may be spent for reasonable program purposes, including personnel, travel, supplies, and services. Equipment may be purchased, with appropriate justification, including cost comparison of purchase with lease. Although contracts with other organizations are allowable, NALBOH must perform a substantial portion of activities for which funds are requested. NALBOH may provide funds to its affiliated organizations to accomplish the purposes of the cooperative agreement, if justified. Cooperative agreement funds may not supplant existing funds from any other public or private source. Funds may not be expended for construction, renovation of existing facilities, or relocation of headquarters, affiliates, or personnel.

D. Where To Obtain Additional Information

To obtain additional business management information, contact: Juanita D. Crowder, Grants Management Specialist, Grants Management Branch, Procurement and Grants Office, Centers for Disease Control and Prevention, 2920 Brandywine Road, Room 3000, Atlanta, GA 30341-4146, Telephone number: 770-488-2734, E-Mail Address: jcrowder@cdc.gov.

To obtain additional programmatic information, contact: Anthony J. Santarsiero, Division of Public Health Systems Development and Research, Public Health Practice Program Office, Centers for Disease Control and Prevention, 4770 Buford Highway, N.E. (MailStop K-37), Atlanta, GA 30341-3717, Telephone: 770-488-2444, E-Mail: asantarsiero@cdc.gov.

Dated: March 29, 2001.
John L. Williams,
Director, Procurement and Grants Office, Centers for Disease Control and Prevention (CDC).

[FR Doc. 01-8226 Filed 4-3-01; 8:45 am]

BILLING CODE 4163-18-P